NATIONAL AERONAUTICS AND SPACE ADMINISTRATION

Notice of Meeting

AGENCY: National Aeronautics and Space Administration.

ACTION: Notice of meeting.

SUMMARY: NASA will conduct an open forum meeting to solicit questions, views and opinions of interested persons or firms concerning NASA's procurement policies, practices, and initiatives. The purpose of the meeting is to have an open discussion between NASA's Associate Administrator for Procurement, industry, and the public.

Note: This is not a meeting about how to do business with NASA for new firms, nor will it focus on small business initiatives or specific contracting opportunities. Position papers are not being solicited.

DATES: Thursday, May 6, 2004, from 10:30 a.m. to 1 p.m.

ADDRESSES: The meeting will be held at NASA Johnson Space Center, Robert R. Gilruth Center, Lone Star Room (second floor), Houston, TX 77508. Enter at Gate 5 from Space Center Boulevard, Houston, Texas (view map at http://jsc-web-pub.jsc.nasa.gov/bd01/Index.htm).

FOR FURTHER INFORMATION CONTACT: NASA Johnson Space Center Industry Assistance Office, Mail Code BD35, 2101 NASA Parkway, Houston, TX 77508, (281) 483-4511 or (281) 483-4512.

SUPPLEMENTARY INFORMATION: Admittance: Doors will open at 10 a.m. Admittance will be on a first-come, first-served basis. Room capacity is limited to approximately 90 persons. To ensure adequate seating, a maximum of two representatives per firm is requested. No reservations will be accepted. Badging will not be required.

Format: There will be a presentation by the Associate Administrator for Procurement, followed by a question and answer period. Procurement issues will be discussed, including current acquisition activities at NASA. Questions for the open forum should be presented at the meeting and should not be submitted in advance. Position papers are not being solicited

Tom Luedtke,
Assistant Administrator for Procurement.

[FR Doc. 04-5692 Filed 3-11-04; 8:45 am]

BILLING CODE 7510-01-P